FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—04/11/2005
20050750 | Hewlett-Packard Company | SAC, LLC | SAC, LLC
20050768 | Emerson Electric Co. | Tescom Corporation | Tescom Corporation
20050769 | D.E. Shaw Composite Portfolios, L.L.C. | Danielson Holding Corporation | Danielson Holding Corporation
20050772 | Harte-Hanks, Inc. | Richard D. Mandt | Flyer Printing Company, Inc.
20050777 | Brockway Moran & Partners Fund II, L.P. | Trust 5/18/1988 Jacob Leon Ellman, Alan and Elaine | IBC Group, Inc.
20050783 | Francisco Partners, L.P. | NetIQ Corporation | NetIQ Corporation
20050784 | Kelso Investment Associates VII, L.P. | Custom Building Products | Custom Building Products
20050785 | CRC Health Group, Inc. | William T. O'Donnell, Jr. | Sierra Tucson LLC
20050788 | Huntsworth PLC | Incepta Group plc | Incepta Group plc
20050791 | Acxiom Corporation | Digital Impact, Inc. | Digital Impact Inc.
20050803 | iPCS, Inc. | Horizon PCS, Inc. | Horizon PCS, Inc.
Transactions Granted Early Termination—04/13/2005
20050655 | ONCAP L.P. | Sterling Investment Partners, L.P. | WIS Holdings Corp.
20050757 | Third Point Offshore Fund, Ltd. | Western Gas Resources, Inc. | Western Gas Resources, Inc.
20050759 | Inmobiliaria Espacio, S.A. | Alcan Inc. | Pechiney Electronmetallurgie SAS
Transactions Granted Early Termination—04/14/2005
20050726 | Yellow Roadway Corporation | USF Corporation | USF Corporation
20050734 | Gardner Denver, Inc. | Thomas Industries, Inc. | Thomas Industries, Inc.
20050782 | HSBC Holdings plc | Compression Polymers Holdings LLC | Compression Polymers Corp Vycom Corp.
20050797 | Kelso Investment Associates VII, L.P. | Insurance Auto Auctions, Inc. | Insurance Auto Auctions, Inc.
20050804 | Allied Capital Corporation | ZS Service Champ L.P. | Service Champ II, LP
20050805 | Yucaipa Corporate Initiatives Fund, I, L.P. | Pathmark Stores, Inc. | Pathmark Stores, Inc.
Transactions Granted Early Termination—04/15/2005
20050811 | Capital Assurance Holdings, LLC | Standard Management Corporation | Standard Life Insurance Company of Indiana
20050812 | Audax Private Equity Fund, L.P. | DLJ Merchant Banking Partners III, L.P. | Advanstar.com, Inc. Advanstar Communications Inc. Home Entertainment Events Questex Media Group, Inc.
20050813 | Jeffrey Katzenberg | DWA Escrow LLLP | DreamWorks Animation SKG, Inc.
20050814 | David Geffen | DWA Escrow LLLP | Dreamworks Animation SKG, Inc.
20050817 | Wachovia Corporation | John E. Cay, III | Palmer & Cay, Inc.
20050819 | Abbott Laboratories | MedNova Limited | MedNova Limited.
20050826 | Global Toys Acquisition, LLC | Toys “R” Us, Inc. | Toys “R” Us, Inc.
20050833 | Apollo Investment Fund IV, L.P. | Apollo Investment Fund IV, L.P. | SkyTerra Communications, Inc.
Transactions Granted Early Termination—04/18/2005
20050775 | Behrman Capital II L.P. | Diakon Lutheran Social Ministries | Diakon Lutheran Social Ministries. Of Northeastern Pennsylvania, Inc. Pennsylvania and Susquehanna Housing, Inc. The Lutheran Home at Toptor. The Lutheran Welfare Service. Tressler Lutheran Service.
20050816 | Barry Diller | Ask Jeeves, Inc. | Ask Jeeves, Inc.
20050820 | Thayer Equity Investors V, L.P. | Kathleen Rotondaro | CHAC, Inc. Quadel Consulting Corporation.
20050821 | Thayer Equity Investors V, L.P. | Edward Symes, III | CHAC, Inc. Quadel Consulting Corporation.
20050836 | Motient Corporation | Mobile Satellite Ventures LP | TerreStar Networks Inc.
20050837 | Great Hill Equity Partners II, L.P. | Everett R. Dobson Irrevocable Family Trust | ACC Tower Sub, LLC. DCS Tower Sub, LLC.
20050842 | Providence Equity Partners IV L.P. | SSI Holdings, LLC | SSI Holdings, LLC.
Transactions Granted Early Termination—04/19/2005
20050202 | Toppan Printing Co., Ltd. | DuPont Photomasks, Inc. | DuPont Photomasks, Inc.
20050799 | Ascension Health | Mayo Foundation | St. Luke's Hospital Association
20050828 | International Coal Group, Inc. | WLR Recovery Fund, II, L.P. | CoalQuest Development LLC
20050829 | International Coal Group Inc. | Anker Coal Group, Inc. | Anker Coal Group Inc.
20050849 | Thayer Equity Investors V, L.P. | American Capital Strategies, Ltd. | Roadrunner Freight Systems, Inc.
Transactions Granted Early Termination—04/21/2005
20050793 | SEACOR Holdings Inc. | Seabulk International, Inc. | Seabulk International, Inc.
20050801 | Nautilus AIV, L.P. | SEACOR Holdings Inc. | SEACOR Holdings Inc.
20050827 | Evercore Capital Partners II L.P. | Diagnostic Imaging Group Holdings, LLC | Diagnostic Imaging Group Holdings, LLC.
20050830 | Entegris, Inc. | Mykrolis Corporation | Mykrolis Corporation.
20050834 | Doosan Heavy Industries and Construction Co., Ltd. | Daewoo Heavy Industries and Machinery, Ltd. | Daewoo Heavy Industries and Machinery, Ltd.
Transactions Granted Early Termination—04/22/2005
20050831 | UBS AG | NAU Holding Company, LLC | NAU Holding Company, LLC
20050839 | Carmike Cinemas, Inc. | Flora Beth Kerasotes | George G. Kerasotes Corporation
20050840 | Apollo Investment Fund IV, L.P. | iPCS, Inc. | iPCS, Inc.
20050844 | Odyssey Investment Partners Fund III, LP | Neff Corp. | Neff Corp.
20050845 | DST Systems, Inc. | Computer Sciences Corporation | CSC Healthcare, Inc.
20050850 | American Capital Strategies, Ltd. | Lawrence Richenstein | Unwired Technology LLC
20050853 | Leucadia National Corporation | Larry and Marianne Williams | Alumni Forest Products, Inc. Idaho Cedar Sales, Inc. Idaho Timber Corporation Idaho Timber Corporation of Albuquerque, Inc. Idaho Timber Corporation of Boise, Inc. Idaho Timber Corporation of Carthage, Inc. Idaho Timber Corporation of Idaho, Inc. Idaho Timber Corporation of Kansas, Inc. Idaho Timber Corporation of Montana, Inc. Idaho Timber Corporation of Mountain Home, Inc. Idaho Timber Corporation of North Carolina, Inc. Idaho Timber Corporation of Texas, Inc.
20050855 | Cantor Fitzgerald, L.P. | Maxcor Financial Group Inc. | Maxcor Financial Group Inc.
20050856 | FS Equity Partners V, LP | Gryphon Dental Partners, L.P. | Bright Now Dental, Inc.
20050860 | MBNA Corporation | KKR 1996 Fund L.P. | Nexstar Financial Corporation

FOR FURTHER INFORMATION CONTACT: Sandra M. Peay, Contact Representative, or Renee Hallman, Case Management Assistant, Federal Trade Commission, Premerger Notification Office, Bureau of Competition, Room H-303, Washington, DC 20580, (202) 326-3100.

Donald S. Clark,
Secretary.

[FR Doc. 05-9262 Filed 5-9-05; 8:45 am]

BILLING CODE 6750-01-M